Title 3—

The President

Presidential Determination No. 01-29 of September 23, 2001

Provision of Aviation Insurance Coverage for Commercial Air Carrier Service in Domestic and International Operations

Memorandum for the Secretary of Transportation

By virtue of the authority vested in me by 49 U.S.C. 44302, et seq., I hereby:

(1)

determine that continuation of U.S.-flag commercial air service is necessary in the interest of air commerce, national security, and the foreign policy of the United States;

(2)

approve provision by the Secretary of Transportation of insurance to U.S.-flag air carriers against loss or damage arising out of any risk from the operation of an aircraft, and/or reimbursement of insurance cost increases, in the manner and to the extent provided in Chapter 443 of 49 U.S.C., whenever he determines that such insurance cannot be obtained on reasonable terms and conditions from any company authorized to conduct an insurance business in a State of the United States; and

(3)

delegate to the Secretary of Transportation the authority, vested in me by 49 U.S.C. 44306(b), to extend this determination for additional 60-day periods, when he finds that the continued operation of aircraft to be insured or reinsured is necessary in the interest of air commerce or the national security, or to carry out the foreign policy of the United States Government.

You are directed to bring this determination immediately to the attention of all air carriers within the meaning of 49 U.S.C. 40102(2), and to arrange for its publication in the Federal Register.

B

THE WHITE HOUSE,

Washington, September 23, 2001

[FR Doc. 01-24179

Filed 9-24-01; 12:01 pm]

Billing code 4910-62-P